DEPARTMENT OF COMMERCE

National Oceanic and Atmospheric Administration

[Docket No. 021127289-2289-01, I.D. 091002E]

RIN 0648-ZB34

Financial Assistance for Research and Development Projects in the Gulf of Mexico and off the U.S. South Atlantic Coastal States; Cooperative Research Program (CRP)

AGENCY: National Marine Fisheries Service (NMFS), National Oceanic and Atmospheric Administration (NOAA), Commerce.

ACTION: Notice of solicitation for applications.

SUMMARY: Subject to the availability of funds, NMFS (hereafter referred to as “we” or “us”) announces the availability of Federal assistance under the Cooperative Research Program (CRP) Grant Program. This announcement provides guidelines, evaluations criteria and selection procedures for the program.

Under the CRP program, we provide financial assistance for research and development projects that optimize the use of fisheries in the Gulf of Mexico and along the Atlantic coast involving the U.S. fishing industry (commercial and recreational), including fishery biology, resource assessment, socio-economic assessments, management and conservation, selected harvest methods, and fish handling and processing.

DATES: We must receive your application by close of business (5 p.m. eastern standard time) on February 18, 2003. Applications received after that time will not be considered for funding.

ADDRESSES: You can obtain an application package from, and send your completed applications to: Ellie Francisco Roche, Chief, State/Federal Liaison Office, Southeast Regional Office, NMFS, 9721 Executive Center Drive, N., St. Petersburg, FL 33702. You can also obtain the application package from the SERO homepage at: http://caldera.sero.nmfs.gov/grants/programs/.

You must submit one signed original and two copies of the completed application (including supporting information). We will accept neither facsimile applications, nor electronically forwarded applications.

FOR FURTHER INFORMATION CONTACT: Ellie Francisco Roche, Chief, State/Federal Liaison Office, (727)570-5324.

SUPPLEMENTARY INFORMATION:

I. Introduction

A. Background

The CRP is a competitive Federal assistance program that funds projects seeking to increase and improve the working relationship between researchers from the NMFS, state fishery agencies, universities, and fishermen. Congress has initiated the cooperative research funding to assist the NMFS to improve the confidence that both commercial and recreational fishermen have in the data and analyses performed in support of fisheries management. The CRP has as its principal goal to provide a means of involving commercial and recreational fishermen in the collection of fundamental fisheries information to support the development and evaluation of management and regulatory options.

B. Funding

We are soliciting applications for Federal assistance pursuant to 15 U.S.C. 713c 3(d). This document describes how you can apply for a grant or cooperative agreement under the CRP Grant Program and how we determine which applications we will fund.

Approximately $2.0 million may be available in fiscal year (FY) 2003 for funding projects. This amount includes possible in-house projects. Publication of this notice obligates neither NMFS to award any specific grant or cooperative agreement nor all or any parts of the available funds.

Project proposals accepted for funding will need to be completed within 18 months.

C. Catalog of Federal Domestic Assistance

This program is described in the “Catalog of Federal Domestic Assistance” under program number 11.454 entitled Unallied Management.

II. Funding Priorities

Your proposal must address one of the priority areas listed below as they pertain to federally-managed species or species relevant to Federal fisheries management plans. If you select more than one priority, you should list first on your application the priority that most closely reflects the objectives of your proposal.

Projects should focus on the greatest probability of collecting data that aids in recovering, maintaining, or improving the status of stocks upon which fisheries depend; improving the understanding of factors affecting recruitment success and long-term sustainability of fisheries; and/or generating increased values and opportunities for fisheries. Projects are evaluated as to the likelihood of achieving these objectives, with consideration of the magnitude of the eventual economic or social benefits that may be realized. Priority is given to funding projects in the subject areas listed in this section, but proposals in other areas are considered on a funds-available basis.

A. Commercial Finfish

There are several priorities within this general category that relate to the collection of catch, effort, size frequency, bycatch, and detailed data on fishing area by vessels in the commercial fisheries for finfish species. The following general categories are identified in priority order:

1. Monitor the effects of closed Marine Protected Areas. Research is needed to identify methods to measure the response of marine resource to changes in regulations for Marine Protected Areas (MPAs). (a) Projects are needed to thoroughly assess the impacts of times/area closures in the Southeast Region that have been designated to protect finfish spawning aggregations and/or concentrations of sub-legal fish. (b) Projects to collect fine-scale data for catch-effort are needed to help refine the definition (spatial and temporal) of MPAs. (c) Projects should include use of fishermen's knowledge about critical habitat for the range of species harvested. An example is the large MPA intended to protect small swordfish and other highly migratory species off the US southeastern coast.

2. Characterize the total catch (from all fleets affecting the stocks), including catch composition and disposition of the catch. (a) Projects are needed to collect detailed information on the composition and disposition of bycatch and discards. (b) Investigations are needed to determine more efficient and effective methods to record catches more accurately and on a real-time basis during the actual fishing (e.g. electronic logbooks). (c) Projects are needed to develop methods to increase the amount of at-sea observation with the application of imaging systems. (d) Projects are needed to fully utilize scientific observers on-board vessels as a means of collecting detailed catch, effort and disposition data. In cases where vessel space does not permit adding an observer, it might be possible to designate the captain or a crew member as the responsible individual on-board for recording these data. Projects need to evaluate the type of training and equipment that are required to assure that scientifically reliable data are collected. (e) Data collection projects are needed to determine the effects of increasing size limits or reducing possession limits on discard rates. If discard mortalities are high, such management measures might counteract the intended conservation benefits to the stock. Discard mortality rates currently used in assessments are generally based on small numbers of observations or are unknown. Research is needed to develop estimates of discard mortality rates as a function of size, gear, area, season and depth of fishing is needed to improve the basis for estimating the conservation benefits or losses associated with size limits for a wide range of stocks. (f) Data collection projects are needed to help improve the information on life history and biological investigations on commercial finfish species are needed. Improved information about the age-structure of the catch (both retained and discarded) based on otolith or other hard-part age readings provide an improved basis for monitoring the stock's resilience to fishing. Improved information on the reproductive characteristics of the stock provides a basis for refining estimates of long-term potential productivity of the stock. Collection of biological specimens from the catch is necessary for improving our understanding of the life history characteristics that influence the stock's resilience to fishing and potential for production. Research activities which provide life history biological specimens are encouraged.

3. Monitoring stock abundance through study-fleet applications. This type of cooperative research requires long-term commitment in terms of funding and application. (a) The objective is to develop a consistent sampling methodology that will permit tracking relative abundance of a fishery resource across time. The initial step for such applications is the development of sampling designs and protocols to be applied by the fleet, including intercalibration studies between vessels, if needed. (b) Projects are needed to develop methods to determine the appropriate sampling designs and pilot studies are needed. An example is the potential development of a recruitment index for swordfish, sampling in regions with high abundance of Young of the Year, generally in the areas that are now closed to longlining in the Gulf and along the southeastern US coast.

4. Projects to develop and test gear and fishing strategy modifications to reduce or eliminate unintended catch are needed.

5. Fishing capacity investigations. There appears to be a wide-spread mismatch between the current capacity of the regional fishing fleets and the productivity of the stocks. Cooperative research into methods to optimize capacity to better match the long-term potential productivity of the regional stocks is needed. A number of possibilities ranging from Individual Quota Systems to Vessel Capacity Control programs could be considered. It was noted that there are likely regional/fishery differences that would require different approaches.

B. Caribbean Fisheries

Orientation meetings have recently been conducted between the Caribbean Fisheries Management Council and the fishing industry. These meetings focused upon closing fisheries in portions of the Exclusive Economic Zone (EEZ) by establishing additional Marine Protected Areas (MPAs). It was evident that representatives from the Caribbean were clearly in touch with concerns expressed by user groups from their region and were attuned to potentials for cooperative research. Two areas, (1) habitat and fisheries and (2) corals, were identified as principal research topics.

1. Habitat and fisheries. (a) Research and data collection to estimate the social and economic impacts that are related to closures of MPAs are a high priority. Currently the Caribbean has five seasonal closures in the EEZ for spawning aggregates of fish and one no-take zone consisting of an annual closure. The size of these areas is not as vast as areas established on the mainland, but for the size of the fishing grounds in the Caribbean, they are significant. Although research has been conducted on the biological impacts of several no-take zones, little or no research has been done to estimate the impacts on the fishing communities and the economics of these fisheries. (b) Although research has been done by scientists, research should focus on industry being utilized as a conduit to take scientists to locations for study. The commercial sector can avail the scientific community tremendous assistance in generating information and knowledge about area closure times and spawning areas. (c) Enormous potential exists for cooperative research between industry and the scientific community. Significant research of closed areas can be effectively achieved by incorporating commercial fishermen with scientific investigations. Commercial fishermen could also assist the scientific community to locate areas of recruitment. (d) Projects are also needed to investigate the benefits of rotating MPAs (either temporal or spatial). Once an area is closed, it remains closed forever, but research is needed to determine the biological and socioeconomic benefits of alternating MPAs between open and closed.

2. Corals. (a) Research is needed to determine the impact on coral reefs from both commercial and recreational fishing activity. Industry participation is needed to research the impacts of gear on coral reefs. (b) Research is needed to determine the impacts to coral resulting from recreational fishing activities. Overall the information on recreational fishing activities on coral reefs is sparse, even though there are approximately 60,000 recreational vessels in the Caribbean. Research should focus on diving, recreational boating and anchoring on coral reefs.

C. Recreational and Charter Fishery

1. Socioeconomic research. (a) Research needs to be performed to determine the numbers of recreational fishermen and related trips need to be accurately defined. (b) Data needs to be collected to expand the information base for the socioeconomic characteristics or the recreational and charter boat industries. (c) In addition to data collection activities, research needs to be done to investigate the potential economic impacts and costs associated with recreational fishing.

2. Research on Management Alternatives. (a) Research into the effects of seasonal closures or MPAs on the recreational and charter boat industries are a priority. (b) Investigations should include benefits and costs to the stocks, as well as socioeconomic benefits/costs to participants in the fishery. (c) One key element is research into the potential impact of closures and/or MPAs to improve spawning stocks. The biological impact of such management alternatives should be more clearly understood regarding impact to spawning stocks. (d) Another key question is the potential impacts of closures on the recruitment of stocks that are important for recreational and charter boat industries. (e) Research is also needed to determine the potential of bag and size limits on species that are important to recreational and charter boat industries. Emphasis of the research should be on looking at alternatives to size limits. (f) Bycatch post-release mortality closely relates to alternative management measures and research is needed to adequately measure these mortality rates. At-sea observers on recreational and charter boat trips are a possible means of performing this type of research and should be considered for this research topic.

3. Catch/Effort Data. Data collection projects are needed to improve the data on catch and effort from the private recreational fishermen. Research is needed to determine whether and at what level an increase in the numbers of intercept interviews are needed to improve better resolution in the estimates of the catch and effort for the private recreational fishery.

4. Habitat research. (a) Research is needed to evaluate the effectiveness of artificial reefs, what can artificial reefs do for the fishing community, and estimate associated impacts. (b) Research is needed to determine the impacts and effects of harmful algal blooms such as red tide on recreational and charter boat fisheries. (c) Investigations are needed into requirements for essential fisheries habitat for certain species - gag group, goliath grouper and sharks.

1. Social and economic impact of fluctuations in domestic shrimp values. (a) Research is needed on the effects on the domestic shrimp fishery by high quantities of imports from foreign countries. (b) Research is also needed to investigate the social and economic impacts. This type of research should include impacts on communities, both local fishery-dependent areas and the industry as a whole.

2. Identifying non-trawlable areas. Research is needed to investigate how habitat enhancements of non-trawlable areas could benefit shrimp fisheries. For example, artificial reefs could be an important method to improve certain fisheries. Such research could include investigations to determine if enhancements could increase habitat for juvenile fish, i.e. red snapper, and not only sub-adult and adult species.

3. Quantification of effort. Research is needed to continue recent effort to improve and better quantitate fishing effort. Such research needs to incorporate the conditions and recommendations negotiated with the shrimp industry. Areas of concern are insurance for at-sea observers, acceptable gear and protecting confidential data that are collected by the projects.

4. BRD testing protocols. Research needs to be continued to develop more efficient methods to certify finfish reduction devices. It would be beneficial for the shrimp industry if certification protocol that is more desirable for both the resource and the user could be developed.

5. Quantification of bycatch rates. Research is needed to expand existing methods of extrapolating trawl bycatch data for a broad range of conditions and fishing grounds. Use of scientific fishery observers should be expanded to collect bycatch information for a wide a range of fishing area and conditions as possible.

III. How to Apply

To apply for grants or cooperative agreements, you must follow the instructions in this document.

A. Eligibility

Eligible applicants include institutions of higher education, other nonprofits, commercial organizations, state governments, and private citizens. Federal agencies or institutions are not eligible. Foreign governments, organizations under the jurisdiction of foreign governments, and international organizations are excluded for purposes of their solicitation since the objective of the CRP is to optimize research and development benefits from U.S. marine fishery resources.

B. Duration and Terms of Funding

We will award grants or cooperative agreements for a maximum period of up to 18 months. For the extent of substantial involvement, see Section III. D. The award period depends upon the duration of funding requested in the applications, the decision of the NMFS selecting official on the amount of funding, the results of post-selection negotiations between the applicant and NOAA officials, and pre-award review of the application by NOAA and Department of Commerce (DOC) officials.

C. Cost Sharing

Cost-sharing is not required for the CRP. Applications must provide the total budget necessary to accomplish the project, including contributions and/or donations. Because 15 U.S.C. 713c 3(c)(4)(B) provides that the amount of Federal funding must be at least 50 percent of the estimated cost of the project, the total costs shown in the proposal will be evaluated for appropriateness according to the administrative rules, including 15 CFR 14.23 and 15 CFR 24.24, as appropriate. If an applicant chooses to cost-share, and if that application is selected for funding, the applicant is bound by the percentage of the cost share reflected in the grant or cooperative agreement award. Note: Costs incurred in either the development of a project or the financial assistance application, or time expended in any subsequent discussions or negotiations prior to the award, are neither reimbursable nor recognizable as part of the recipient's cost share.

D. Application Format and Requirements

The Department of Commerce Pre-Award Notification Requirements for Grants and Cooperative Agreements contained in the Federal Register notice of October 1, 2001 (66 FR 49917), as amended by the Federal Register notice published on October 30, 2002 (67 FR 66109), is applicable to this solicitation. Your application must be complete and must follow the format described in the CRP Application Package. Applicants should contact the NMFS Southeast Regional Office for a copy of this solicitation's CRP Application Package (see ADDRESSES). You may also obtain the application package from the SERO Home Page at: ttp//caldera.sero.nmfs.gov/grants/programs/.

Project applications must identify the principal participants, and include copies of any agreements describing the specific tasks to be performed by participants. Project applications should give a clear presentation of the proposed work, the methods for carrying out the project, its relevance to managing and enhancing the use of Gulf of Mexico and Atlantic fishery resources, and cost estimates as they relate to specific aspects of the project. Budgets must include a detailed breakdown, by category of expenditures, with appropriate justification for both the Federal and non-Federal shares. The budget must include estimates of the time and cost to the government required of the SEFSC partner. The cost of the SEFSC partner is not to be included as part of the project cost, but should be included as a separate budget item.

Applications should exhibit familiarity with related work that is completed or ongoing. Proposals should state whether the research applies to the Gulf of Mexico, South Atlantic or North Atlantic for highly migratory species or multiple areas. Successful applicants are required to collect and manage data in accordance with standardized procedures and format approved or specified by NMFS and to participate with NMFS in specific cooperative activities that are determined by consultations between NMFS and successful applicants before project grants are awarded. All data collected as part of an awarded grant must be provided to the National Marine Fisheries Service/Southeast Fisheries Science Center. Data must be edited and specified as accurate by the Principal Investigator.

All applicants must either be a commercial or recreational fisherman or have a written agreement that the proposed research includes a commercial or recreational fisherman or fishermen.

All applicants must include a written agreement with a person employed by the Southeast Fisheries Science Center (SEFSC) that will act as a partner in the proposed research project. The SEFSC partner will assist the applicant to develop a design for the project to assure that the outcome will provide suitable, scientific data and results to support needed fisheries management information.

Applications must be one-sided and unbound. All incomplete applications are returned to the applicant. Three copies (one original and two copies) of each application are required and should be submitted to the NMFS Southeast Regional Office, State/Federal Liaison Office (see ADDRESSES).

E. Indirect Costs

The total dollar amount of the indirect costs awarded under this program will not exceed the indirect cost rate negotiated and approved by a cognizant Federal agency prior to the proposed effective date of the award or 25 percent of the Federal share of the total proposed direct costs dollar amount in the application, whichever is less. A copy of the current, approved, negotiated Indirect Cost Agreement with the Federal Government must be included with the application.

IV. Screening, Evaluation, and Selection Procedures

A. Initial Screening of Applications

When we receive applications we will screen them to ensure that they were received by the deadline date (see DATES); include SF 424 signed and dated by an authorized representative; were submitted by an eligible applicant, either a commercial or recreational fisherman or contains a written agreement with a commercial or recreational fisherman; includes a written agreement with an SEFSC partner; address one of the funding priorities for federally managed species; and include a budget, statement of work, and milestones, and identify the principal investigator. We do not have to screen applications before the submission deadline in order to identify deficiencies that would cause your application to be rejected so that you would have an opportunity to correct them. However, should we do so and provide you information about deficiencies, or should you independently decide it is desirable to do so, you may correct any deficiencies in your application before the deadline. After the deadline, the application must remain as submitted; no changes can be made to it. If your application does not conform to these requirements and the deadline for submission has passed, the application will be returned without further consideration.

B. Evaluations of Proposed Projects

1. Technical evaluation. Application responsive to this solicitation will be evaluated by three or more appropriate private and public sector experts to determine their technical merit. These reviewers will provide individual evaluations of the proposals. No consensus advice will be given. These reviewers provide comments and assign scores to the applications based on the following criteria, with the weights shown in parentheses:

a. Does the proposal have a clearly stated goals(s) with associated objectives that meet the needs outlined in the project narrative? ( 30 points maximum)

b. Does the proposal clearly identify and describe, in the project outline and statement of work, scientific methodologies and analytical procedures that will adequately address project goals and objectives? (30 points maximum)

c. Do the principal investigators provide a realistic timetable to enable full accomplishment of all aspects of the research? (20 points maximum)

d. How effective are the proposed methods in enabling the principal investigators to maintain stewardship of the project performance, finances, cooperative relationships, and reporting requirements? (10 points maximum)

e. Does the budget appropriately allocate and justify costs? (10 points maximum)

2. Scientific Panel. Applications together with the technical reviewers' comments and scores are presented to a Scientific Panel composed of NMFS scientific experts. This panel provides comments and rates each proposal as either “Recommended for Funding” or “Not Recommended for Funding” based on merits of the science, the necessity of the information that would be gained by the project, and the likelihood of assisting industry or fisheries management.

3. CRP Panel. Proposals that are “Recommended for Funding” by the Scientific Panel are presented to a panel of non-NOAA Fishery experts known as the CRP Panel. Each member of the Panel individually considers if needs of the Agency are addressed in each proposal, if the project assists industry, and if the project addresses issues that are important to regional fisheries management. The individuals on the Panel provide comments and rate each of these proposals as either “Recommended for Funding” or “Not Recommended for Funding.” No consensus advice will be given by the Panel. The Program Manager ranks the proposals in the order of preferred funding based on the number of Panel members recommending the proposal for funding.

4. Science Center Director. The ranked proposals are provided to the Science Center Director, who is the selecting official, in the order of preferred funding, based on the number of Panel members recommending the proposal for funding. If there are ties in the rankings, those ties will be distinguished by the peer review score. The Science Center Director also receives the Panel members' individual comments, and comments from the Scientific Panel for projects it rated as “Recommended for Funding."

The Science Center Director, in the consultation with the Regional Administrator, determines the projects to be recommended for funding. Though rarely used, the Science Center Director has an option to make a selection that falls outside the CRP Panel's order of preferred funding on the following grounds: for geographic diversity, if not enough projects have addressed a priority, or because of duplication with other funded grants within NOAA. The Science Center Director will justify in writing any such selection.

The exact amount of funds awarded, the final scope of activities, the project duration, and specific NMFS cooperative involvement with the activities of each project are determined in pre-award negotiations between the applicant, the NOAA Grants Office and the NMFS Program Office. Projects must not be initiated by recipients until a signed award is received from the NOAA Grants Office. Successful applications generally are recommended within 210 days from the date of publication of this notice. The earliest start date of awards average 90 days after each project is selected and after all NMFS/applicant negotiations of cooperative activities have been completed. The earliest start date of awards is about 300 days after the date of publication of this notice. Applicants should consider this selection and processing time in developing requested start dates for their applications. Unsuccessful applications will be returned to the applicant.

V. Administrative Requirements

A. Your Obligations as an Applicant

You must:

1. Meet all application requirements and provide all information necessary for the evaluation of the proposal, including one signed original and nine signed copies of the application.

2. Be available to respond to questions during the review and evaluation of the proposal(s).

B. Your Obligations as a Successful Applicant (Recipient)

If you are selected to receive a grant award for a project, you must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and submit financial status reports (SF 269) to NOAA Grants in accordance with the award conditions.

3. Submit semiannual project status reports on the use of funds and progress of the project to us within 30 days after the end of each 6-month period. You will submit these reports to the individual identified as the NMFS Program Officer in the funding agreement.

4. Submit a final report within 90 days after completion of each project to the NMFS Program Officer. The final report must describe the project and include an evaluation of the work you performed and the results and benefits in sufficient detail to enable us to assess the success of the completed project.

5. Submit all data collected as part of the project to the SEFSC partner. Project data must be edited and verified as accurate by the applicant prior to being submitted to the SEFSC. Data must be submitted in the agreed upon format.

6. In addition to the final report, we request that you submit any publications printed with grant funds (such as manuals, surveys, etc.) to the NMFS Program Office for dissemination to the public.

C. Other Requirements of Recipients

If a grant is made that specifically requires the collection of information from the public, there will be a delay to allow NMFS to obtain the required Paperwork Reduction Act (PRA) approval prior to the start of the collection. This approval process takes a minimum of 4 months. Information on the PRA process can be found at the following Web site address: www.rdc.noaa.gov@pra.

Applications under this program are subject to the provisions of Executive Order 12372, “Intergovernmental Review of Federal Programs."

Prior notice and an opportunity for public comments are not required by the Administrative Procedure Act (5 U.S.C. 553a(2)) or any other law for this notice concerning grants, benefits, and contracts. Therefore, a regulatory flexibility analysis is not required for purposes of the Regulatory Flexibility Act (5 U.S.C. 601 et seq.).

This action has been determined to be not significant for purposed of Executive Order 12866.

Notwithstanding any other provisions of law, no person is required to respond to, nor shall any person be subject to a penalty for failure to comply with a collection of information requirements subject to the Paperwork Reduction Act, unless that collection displays a currently valid OMB control number.

This notice contains collection-of-information requirements subject to the Paperwork Reduction Act. The use of Standard Forms 424, SF-LLL, SF-424B, and SF-269 have been approved by OMB under the respective control numbers 0348-0043, 0348-0040, 0348-0046 and 0348-0039. Public reporting burden for the latter collections of information is estimated to average 4 hours for an application, 1 hour for a semi-annual report, and 1 hour for a final report. These estimates include the time for reviewing instructions, searching existing data sources, gathering and maintaining the data needed, and completing and reviewing the collection of information. Send comments regarding these burden estimates or any other aspect of these collection of information, including suggestions for reducing this burden to Ellie Francisco Roche (see ADDRESSES).

Authority: 15 U.S.C. 713c-3(d)

Dated: December 9, 2002.
Rebecca Lent,
Deputy Assistant Administrator for Regulatory Programs, National Marine Fisheries Service.

[FR Doc. 02-31698 Filed 12-16-02; 8:45 am]

BILLING CODE 3510-22-S